DEPARTMENT OF ENERGY

Federal Energy Regulatory Commission

Combined Notice of Filings

Take notice that the Commission has received the following Natural Gas Pipeline Rate and Refund Report filings:

Filings Instituting Proceedings

Docket Numbers: RP13-1051-000.

Applicants: Questar Pipeline Company.

Description: QPC cleanup to be effective 8/10/2013.

Filed Date: 7/10/13.

Accession Number: 20130710-5126.

Comments Due: 5 p.m. ET 7/22/13.

Docket Numbers: RP13-1052-000.

Applicants: Mississippi Hub, LLC.

Description: Mississippi Hub, LLC ACA Tariff Update July 2013_2 to be effective 10/1/2013.

Filed Date: 7/10/13.

Accession Number: 20130710-5148.

Comments Due: 5 p.m. ET 7/22/13.

Docket Numbers: RP13-1053-000.

Applicants: Texas Eastern Transmission, LP.

Description: Range 8929199 7-11-2013 Negotiated Rate to be effective 7/11/2013.

Filed Date: 7/11/13.

Accession Number: 20130711-5028.

Comments Due: 5 p.m. ET 7/23/13.

Docket Numbers: RP13-1054-000.

Applicants: Algonquin Gas Transmission, LLC.

Description: ACA Compliance Filing—Docket No. RM12-14-000; Order No. 776 to be effective 10/1/2013.

Filed Date: 7/11/13.

Accession Number: 20130711-5029.

Comments Due: 5 p.m. ET 7/23/13.

Docket Numbers: RP13-1055-000.

Applicants: Big Sandy Pipeline, LLC.

Description: ACA Compliance Filing—Docket No. RM12-14-000; Order No. 776 to be effective 10/1/2013.

Filed Date: 7/11/13.

Accession Number: 20130711-5032.

Comments Due: 5 p.m. ET 7/23/13.

Docket Numbers: RP13-1056-000.

Applicants: Bobcat Gas Storage.

Description: ACA Compliance Filing—Docket No. RM12-14-000; Order No. 776 to be effective 10/1/2013.

Filed Date: 7/11/13.

Accession Number: 20130711-5033.

Comments Due: 5 p.m. ET 7/23/13.

Docket Numbers: RP13-1057-000.

Applicants: Egan Hub Storage, LLC.

Description: ACA Compliance Filing—Docket No. RM12-14-000; Order No. 776 to be effective 10/1/2013.

Filed Date: 7/11/13.

Accession Number: 20130711-5034.

Comments Due: 5 p.m. ET 7/23/13.

Docket Numbers: RP13-1058-000.

Applicants: East Tennessee Natural Gas, LLC.

Description: ACA Compliance Filing—Docket No. RM12-14-000; Order No. 776 to be effective 10/1/2013.

Filed Date: 7/11/13.

Accession Number: 20130711-5039.

Comments Due: 5 p.m. ET 7/23/13.

Docket Numbers: RP13-1059-000.

Applicants: Gulfstream Natural Gas System, L.L.C.

Description: ACA Compliance Filing—Docket No. RM12-14-000; Order No. 776 to be effective 10/1/2013.

Filed Date: 7/11/13.

Accession Number: 20130711-5040.

Comments Due: 5 p.m. ET 7/23/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 11, 2013.
Nathaniel J. Davis, Sr.,
Deputy Secretary.

[FR Doc. 2013-17306 Filed 7-18-13; 8:45 am]

BILLING CODE 6717-01-P